DEPARTMENT OF DEFENSE

Offsets in Defense Trade

AGENCY: Department of Defense.

ACTION: Request for public comments.

SUMMARY: The Interagency Offset Steering Committee is seeking information that will assist the Committee in developing strategies for discussions/consultations with other countries on reducing or eliminating the adverse effects of offsets in defense trade. Offsets by their nature are market distorting and result in inefficient business practices. Interested parties are involved to submit written comments, opinions, data, information, or recommendations relative to this objective, including information that will help the Committee more accurately assess the effects of offsets in defense trade. If sufficient interest is demonstrated, a public hearing might be scheduled in the future.

DATES: Comments must be received no later than May 8, 2000.

ADDRESSES: Send all comments to Domenico C. Cipicchio, Deputy Director, Defense Procurement, Foreign Contracting, OUSD (AT&L), 3060 Defense Pentagon, Washington, DC 20301-3060.

FOR FURTHER INFORMATION CONTACT: Susan M. Hildner, Procurement Analyst, Defense Procurement, Foreign Contracting, OUSD(AT&L), 3060 Defense Pentagon, Washington, DC 20301-3060, (703) 697-9352.

SUPPLEMENTARY INFORMATION: In accordance with Section 123 of the Defense Production Act as amended in 1992 (Public Law 102-588, October 28, 1992), an Interagency Offset Steering Committee has been conducting a series of discussions with its allies on defense offsets. The Committee is chaired by the Department of Defense and includes representatives from the Departments of Commerce, State and Labor and the Office of the United States Trade Representative. The Committee plans to hold discussions with all 21 countries with which we have a reciprocal procurement Memorandum of Understanding. These countries include: Australia, Austria, Belgium, Canada, Denmark, Egypt, Finland, France, Federal Republic of Germany, Greece, Israel, Italy, Luxembourg, Netherlands, Norway, Portugal, Spain, Sweden, Switzerland, Turkey, and the United Kingdom. The Committee is interested in data and recommendations that will support these discussions and aid in strategy development with respect to reducing or eliminating offsets in defense trade. Interested parties are invited to submit written comments to assist the Committee in its deliberations and discussions.

All materials should be submitted with 5 copies. Material that is business confidential information will be exempted from public disclosure as provided for by 5 U.S.C. 552(b)(4) (Freedom of Information Act (FOIA) rules). Anyone submitting business confidential information should clearly identify the business confidential portion of the submission and also provide a non-confidential submission, which can be placed in the public file. Comments not marked business confidential may be subject to disclosure under FOIA.

Michele P. Peterson,
Executive Editor, Defense Acquisition Regulations Council.

[FR Doc. 00-7065 Filed 3-21-00; 8:45 am]

BILLING CODE 5000-04-M